DEPARTMENT OF COMMERCE

Foreign-Trade Zones Board

[Docket 8-2011]

Foreign-Trade Zone 53—Tulsa, OK; Application for Reorganization/Expansion Under Alternative Site Framework

An application has been submitted to the Foreign-Trade Zones (FTZ) Board (the Board) by the City of Tulsa-Rogers County Port Authority, grantee of FTZ 53, requesting authority to reorganize and expand the zone under the alternative site framework (ASF) adopted by the Board (74 FR 1170-1173, 01/12/09 (correction 74 FR 3987, 01/22/09); 75 FR 71069-71070, 11/22/10). The ASF is an option for grantees for the establishment or reorganization of general-purpose zones and can permit significantly greater flexibility in the designation of new “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on February 1, 2011.

FTZ 53 was approved by the Board on December 7, 1979 (Board Order 151, 44 FR 76382, 12/26/79), and expanded on September 16, 1993 (Board Order 655, 58 FR 50330, 09/27/93). The current zone project includes the following sites: Site 1 (70 acres)—within the Port of Catoosa, Rogers County; Site 2 (1,731 acres)—within the Tulsa International Airport, 7777 East Apache, Tulsa (Tulsa County); Site 3 (750 acres)—within the Mid-America Industrial Park, 4075 Sanders Mitchell Street, Pryor Creek (Mayes County); Site 4 (160 acres)—Bartlesville Industrial Park, U.S. Highway 60 and Bison Road, Bartlesville (Washington County); and, Site 5 (500 acres)—Stillwater Industrial Park, located east of U.S. Highway 177, Stillwater (Payne County).

The grantee's proposed service area under the ASF would be Rogers County, Oklahoma. If approved, the grantee would be able to serve sites throughout the service area based on companies' needs for FTZ designation. The proposed service area is within and adjacent to the Tulsa Customs and Border Protection port of entry. The grantee proposes to retain its existing sites (Sites 2-5) located in Tulsa, Mayes, Washington and Payne Counties.

The applicant is requesting authority to reorganize and expand its existing zone project to include all of its existing as “magnet” sites. The applicant is also requesting approval of the following new “magnet” sites: Proposed Site 6 (550 acres)—Claremore Business and Industrial Park, Lowry Road and Highway 66, Claremore (Rogers County); and, Proposed Site 7 (525.70 acres)—Claremore Regional Airport Industrial Park, 19502 Rogers Post Road, Claremore (Rogers County). Since the ASF only pertains to establishing or reorganizing a general-purpose zone, the application would have no impact on FTZ 53's authorized subzones.

In accordance with the Board's regulations, Camille Evans of the FTZ Staff is designated examiner to evaluate and analyze the facts and information presented in the application and case record and to report findings and recommendations to the Board.

Public comment is invited from interested parties. Submissions (original and 3 copies) shall be addressed to the Board's Executive Secretary at the address below. The closing period for their receipt is April 8, 2011. Rebuttal comments in response to material submitted during the foregoing period may be submitted during the subsequent 15-day period to April 23, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Camille Evans at Camille.Evans@trade.gov or (202) 482-2350.

Dated: February 1, 2011.
Andrew McGilvray,
Executive Secretary.

[FR Doc. 2011-2634 Filed 2-4-11; 8:45 am]

BILLING CODE P